FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants:

TUG Logistics (Miami), Inc., 2801 NW., 74th Avenue, Suite 173, Miami, FL 33122, Officers: Robert Hsiang Lin Wu, President, Daniel Wang, Vice President, (Qualifying Individual).

Superior Transportation L.L.C., 12 South Orange Avenue, South Orange, NJ 07079, Officer: Chaim Jeff Lelchuk, President (Qualifying Individual).

Pacific Shipping Corp., 642 W. Pacific Coast Hwy., Long Beach, CA 90806, Officers: Ms. Lihua Yang, President, Ms. Quin Cai, Secretary (Qualifying Individual).

Cody Cargo Corp. dba Armada International Logistics, 632 Centre Drive, Lincolnton, NC 28092, Officers: Carol Cody Canipe, President Qualifying Individual), Susan C. Petro, Vice President.

Grandwin Management, LLC, 2781 Brookside Drive, #C, Bakersfield, CA 93311, Officers: Ting Zhao, President, Parry Tam, Executive Director (Qualifying Individual).

Seabound Freight, LLC, 8209 NW., 68th Street, Miami, FL 33166-2760, Officer: Juan Carlos Gonzalez, President (Qualifying Individual).

Air Sea Containers, Inc., 2749 NW., 82nd Avenue, Miami, FL 33122 Officers: Alan H. Bond, President, (Qualifying Individual), Rosairo Bond, CEO.

Hwa-Wei Yang dba Ea-Land Shipping, 11222 La Cienga Blvd., Suite #160, Inglewood, CA 90304, Officer: Hwa-Wei Yang (Sole Proprietor).

Non-Vessel-Operating Common Carrier and Ocean Freight Forwarder Transportation Intermediary Applicants:

Seaboard Solutions, Inc., 8050 Northwest 79th Avenue, Miami, FL 33168, Officers: John Lynch, President, Mario Leon, Vice President (Qualifying Individual).

Awilda Shipping, Inc., 4102 108 Street, Corona, NY 11368, Officer: Soledad Cruz, President (Qualifying Individual).

XCC Logistics, Inc., 6000 NW., 97th Avenue, Suite 400, Miami, FL 33178, Officers: Aristides Typaldos, President, Jorge Rodriguez, Secretary (Qualifying Individual).

Dated: September 3, 2004.
Bryant L. VanBrakle,
Secretary.

[FR Doc. 04-20476 Filed 9-9-04; 8:45 am]

BILLING CODE 6730-01-P